DEPARTMENT OF TRANSPORTATION

Federal Aviation Administration

Notice of Opportunity for Public Comment To Dispose of 1.93 Acres of Land at Eastern Slopes Regional Airport, Fryeburg, ME

AGENCY: Federal Aviation Administration (FAA), DOT.

ACTION: Request for Public Comments.

SUMMARY: Notice is being given that the FAA is considering a request from the Town of Fryeburg, ME to dispose of 2.0 Acres of land at Eastern Slopes Regional Airport, Fryeburg ME. The land was the site of the non-directional beacon located 10.2 nautical miles from the airport and was decommissioned and removed from the site. The land is no longer needed for aviation purposes and can be disposed without affecting future aviation needs of the airport. Ninety percent of the revenue generated by the disposal will be returned to the FAA and used for future airport grants.

DATES: Comments must be received on or before May 21, 2021.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION, CONTACT: Mr. Jorge E. Panteli, Compliance and Land Use Specialist, Federal Aviation Administration New England Region Airports Division, 1200 District Avenue, Burlington, Massachusetts 01803. Telephone: 781-238-7618.

Authority: 49 United States Code 47107(h)(2).

Issued in Burlington, Massachusetts on April 14, 2021.
Julie Seltsam-Wilps,
Deputy Director, ANE-600.

[FR Doc. 2021-07992 Filed 4-20-21; 8:45 am]

BILLING CODE 4910-13-P